BROADCASTING BOARD OF GOVERNORS

Sunshine Act Meeting Notice

DATE AND TIME: Friday, March 11, 2011; 11 a.m.

PLACE: Office of Cuba Broadcasting Headquarters, 4201 NW. 77th Ave., Miami, FL 33166.

SUBJECT: Notice of Meeting of the Broadcasting Board of Governors.

SUMMARY: The Broadcasting Board of Governors (BBG) will be meeting at the time and location listed above. In its meeting, the BBG anticipates it will: Affirm its 2011 policy statements on sexual harassment and equal employment opportunity; consider, among other things, resolutions recognizing anniversaries of various broadcasting services; receive a budget update, an East Asia trip report, and a report from the Director of the International Broadcasting Bureau; receive and consider a report from the BBG Strategy and Budget Committee on the status of the current regional reviews, including Africa and Latin America; and receive and consider a report from the BBG Governance Committee on matters pertaining to committee administrative matters, board operations and responsibilities, grantee oversight, entity authority, and interaction with non-USIB entities. The meeting is open to public observation via streamed webcast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel.

[FR Doc. 2011-5426 Filed 3-4-11; 4:15 pm]

BILLING CODE 8610-01-P